DEPARTMENT OF TRANSPORTATION

Federal Aviation Administration

Commercial Space Transportation Advisory Committee—Open Meeting

AGENCY: Federal Aviation Administration (FAA), DOT.

ACTION: Notice of Commercial Space Transportation Advisory Committee Open Meeting.

SUMMARY: Pursuant to section 10(a)(2) of the Federal Advisory Committee Act (Pub. L. 92-463, 5 U.S.C. App. 2), notice is hereby given of a meeting of the Commercial Space Transportation Advisory Committee (COMSTAC). The meeting will take place on Thursday, October 11, 2007, starting at 8 a.m. at the Federal Aviation Administration Headquarters Building, 800 Independence Avenue SW., Washington, DC., in the Bessie Coleman Conference Center, located on the 2nd Floor. This will be the forty-sixth meeting of the COMSTAC.

The proposed agenda for the meeting will feature briefings on Operationally Responsive Space and China's space activities, a report on activities in the FAA Office of Commercial Space Transportation (AST), and COMSTAC Working Group reports. An agenda will be posted on the FAA Web site at http://ast.faa.gov. Meetings of the COMSTAC Working Groups (Technology and Innovation, Reusable Launch Vehicle, Risk Management, and Launch Operations and Support) will be held on Wednesday, October 10, 2007. For specific information concerning the times and locations of the working group meetings, contact the Contact Person listed below.

Individuals who plan to attend and need special assistance, such as sign language interpretation or other reasonable accommodations, should inform the Contact Person listed below in advance of the meeting.

FOR FURTHER INFORMATION CONTACT: Brenda Parker (AST-100), Office of Commercial Space Transportation, 800 Independence Avenue, SW., Room 331, Washington, DC 20591, telephone (202) 267-3674; e-mail brenda.parker@faa.gov.

Issued in Washington, DC, September 7, 2007.
Patricia G. Smith,
Associate Administrator for Commercial Space Transportation.

[FR Doc. 07-4607 Filed 9-13-07; 11:09 am]

BILLING CODE 4910-13-P